SMALL BUSINESS ADMINISTRATION

Ironwood Mezzanine Fund III-A, L.P., License No. 01/01-0421; Notice Seeking Exemption Under Section 312 of the Small Business Investment Act, Conflicts of Interest

Notice is hereby given that Ironwood Mezzanine Fund III-A, L.P., 55 Nod Rd, Avon, CT 06001, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Ironwood Mezzanine Fund III-A, L.P. proposes to provide debt security financing to My Alarm Center, LLC. The financing is contemplated to repay debt and redeem certain preferred equity securities.

The financing is brought within the purview of § 107.730(a)(4) of the Regulations because My Alarm Center, LLC will use part of the financing to discharge debts owed to Ironwood Mezzanine Fund II, L.P., an Associate of Ironwood Mezzanine Fund III-A, L.P. Therefore, this transaction is considered a financing of an Associate requiring an exemption.

Notice is hereby given that any interested person may submit written comments on the transaction within fifteen days of the date of this publication to the Associate Administrator for Investment, U.S. Small Business Administration, 409 Third Street SW., Washington, DC 20416.

Sean Greene,
Associate Administrator for Investment.

[FR Doc. 2012-17524 Filed 7-17-12; 8:45 am]

BILLING CODE P